DEPARTMENT OF TRANSPORTATION

Research and Special Programs Administration (RSPA)

[Docket No. RSPA-98-4470]

Pipeline Safety: Meeting of the Hazardous Liquid Pipeline Safety Advisory Committee

AGENCY: Office of Pipeline Safety, Research and Special Programs Administration, DOT.

ACTION: Notice; Meeting of the Hazardous Liquid Pipeline Safety Standards Committee.

SUMMARY: Pursuant to section 10(a)(2) of the Federal Advisory Committee Act (Pub. L. 92-463, 5 U.S.C. App. 1) the Office of Pipeline Safety (OPS) gives notice of the continuation of a conference call meeting of the Technical Hazardous Liquid Pipeline Safety Standards Committee (THLPSSC) to consider the Notice of Proposed Rulemaking (NPRM), “Pipeline Safety: Pipeline Integrity Management in High Consequence Areas (Hazardous Liquid Operators with 500 or more Miles of Pipeline).” This meeting is being held without the required 15-day notice (THLPSSC Charter; Section 7 (d)) because of the urgent need to complete advisory committee action on this rule.

DATES: OPS will continue the conference call meeting on Friday, September 22, 2000, at 3:30 p.m. EST.

ADDRESSES: Members of the public may attend the meetings at the Department of Transportation, Nassif Building, 400 Seventh Street, SW, Washington, DC 20590. The meeting will be held in room 6332. The public may participate by telephone by registering with Juan Carlos Martinez, (202) 366-1933, no later than Wednesday, September 20, 2000. The Office of Pipeline Safety will contact all registered individuals prior to the meeting to notify them of the conference call number.

Information on Services for Individuals With Disabilities

For information on facilities or services for individuals with disabilities or to request special assistance during the telephone conference calls, contact Juan Carlos Martinez at (202) 366-1933.

FOR FURTHER INFORMATION CONTACT: Cheryl Whetsel, OPS, (202) 366-4431 or Richard Huriaux, OPS, (202) 366-4565, regarding the subject matter of this notice.

SUPPLEMENTARY INFORMATION: The THLPSSC is a statutorily mandated advisory committee that advises OPS on proposed safety standards and other safety policies for hazardous liquid pipelines. The committee consists of 15 members representing government, industry, and the public. The committee meets twice a year, usually in May and November. However, because the THLPSSC requested a delay in its formal review of the proposed rule at the May 2000 meeting, a special conference call meeting was held on September 11, 2000. Because the committee did not have time to complete its work, an additional conference call meeting will be held on September 22, 2000. The THLPSSC will provide comments on the Notice of Proposed Rulemaking (NPRM), “Pipeline Safety: Pipeline Integrity Management in High Consequence Areas (Hazardous Liquid Operators with 500 or more Miles of Pipeline)” (65 FR 21695) and will vote on the adequacy of the rule and the accompanying risk assessment.

Authority: 49 U.S.C. 60102, 60115.

Issued in Washington, DC on September 12, 2000.
Stacey L. Gerard,
Associate Administrator for Pipeline Safety.

[FR Doc. 00-23905 Filed 9-15-00; 8:45 am]

BILLING CODE 4910-60-P